DEPARTMENT OF DEFENSE

Office of the Secretary

[Transmittal No. 24-56]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-56, Policy Justification, and Sensitivity of Technology.

Dated: November 13, 2025.
Aaron T. Siegel,
Alternate OSD Federal Register Liaison Officer, Department of Defense.

BILLING CODE 6001-FR-P

BILLING CODE 6001-FR-C

Transmittal No. 24-56

Notice of Proposed Issuance of Letter of Offer Pursuant to Section 36(b)(1) of the Arms Export Control Act, as amended.

(i) Prospective Purchaser: Taipei Economic and Cultural Representative Office in the United States (TECRO)

(ii) Total Estimated Value:

Major Defense Equipment * | 0
Other | $300 million
TOTAL | $300 million

Funding source: National Funds

(iii) Description and Quantity or Quantities of Articles or Services under Consideration for Purchase:

Major Defense Equipment (MDE):

None

Non-MDE:

The following non-MDE is included: ALTIUS 600M-V systems, comprised of an Unmanned Aerial Vehicle (UAV) loitering munition with extensible warhead and electro-optical/infrared (E.O./IR) camera; ALTIUS 600 inert training UAVs; Pneumatic Integrated Launch Systems (PILS); PILS transport trailers; ground control systems; associated support, including spares; battery chargers; operator and maintenance training; operator, maintenance, and training manuals; technical manuals; logistics and fielding support; testing; technical assistance CONUS and OCONUS, including for engineering services; program management; site surveys; facility, logistics and maintenance evaluations; quality assurance and de-processing team support; field service representative support; transportation; and other related elements of logistics and program support.

(iv) Military Department: Navy (TW-P-AMC)

(v) Prior Related Cases, if any: None

(vi) Sales Commission, Fee, etc., Paid, Offered, or Agreed to be Paid: None known

(vii) Sensitivity of Technology Contained in the Defense Article or Defense Services Proposed to be Sold: See Attached Annex

(viii) Date Report Delivered to Congress: June 18, 2024

* as defined in Section 47(6) of the Arms Export Control Act.

POLICY JUSTIFICATION

Taipei Economic and Cultural Representative Office in the United States—ALTIUS 600M-V Unmanned Aerial Vehicles

The Taipei Economic and Cultural Representative Office in the United States (TECRO) has requested to buy the following non-MDE: ALTIUS 600M-V systems, comprised of an Unmanned Aerial Vehicle (UAV) loitering munition with extensible warhead and electro-optical/infrared (E.O./IR) camera; ALTIUS 600 inert training UAVs; Pneumatic Integrated Launch Systems (PILS); PILS transport trailers; ground control systems; associated support, including spares; battery chargers; operator and maintenance training; operator, maintenance, and training manuals; technical manuals; logistics and fielding support; testing; technical assistance CONUS and OCONUS, including for engineering services; program management; site surveys; facility, logistics and maintenance evaluations; quality assurance and de-processing team support; field service representative support; transportation; and other related elements of logistics and program support. The estimated total cost is $300 million.

This proposed sale is consistent with U.S. law and policy as expressed in Public Law 96-8.

This proposed sale serves U.S. national, economic, and security interests by supporting the recipient's continuing efforts to modernize its armed forces and to maintain a credible defensive capability. The proposed sale will help improve the security of the recipient and assist in maintaining political stability, military balance, and economic progress in the region.

The proposed sale will improve the recipient's ability to meet current and future threats. The recipient will have no difficulty absorbing this equipment into its armed forces.

The proposed sale of this equipment and support will not alter the basic military balance in the region.

The principal contractor will be Anduril, located in Atlanta, GA. There are no known offset agreements proposed in connection with this potential sale.

Implementation of this proposed sale will require assignment of 5 U.S. Government and 12 contractor representatives for a duration of up to two years to support equipment fielding/training and program management.

There will be no adverse impact on U.S. defense readiness because of this proposed sale.

Transmittal No. 24-56

Notice of Proposed Issuance of Letter of Offer Pursuant to Section 36(b)(1) of the Arms Export Control Act

Annex

Item No. vii

vii. Sensitivity of Technology:

1. The ALTIUS 600M-V system is composed of an Unmanned Aerial Vehicle (UAV), Pneumatic Integrated Launch System (PILS), payload, and associated support. Each UAV is integrated with a command-and-control radio and assured positioning, navigation, and timing modules. The ALTIUS 600M-V system is designed for expeditionary deployment by air, mobile, ground, or maritime forces. It leverages autonomy to allow a single operator to control multiple UAVs simultaneously. The PILS is a reusable launcher holding up to one UAV at a time per canister. The UAV's payload is an electro-optical/infrared (E.O./IR) camera and extensible warhead, which provides a loitering munition capability. The ALTIUS 600M-V can operate up to 18,000 feet above ground level with an endurance of approximately 90 minutes, a range of up to 160km, and a dash speed of 185km/hour, dependent on payload.

2. The highest level of classification of defense articles, components, and services included in this potential sale is UNCLASSIFIED.

3. If a technologically advanced adversary were to obtain knowledge of the specific hardware and software elements, the information could be used to develop countermeasures that might reduce weapon system effectiveness or be used in the development of a system with similar or advanced capabilities.

4. A determination has been made that the recipient can provide substantially the same degree of protection for the sensitive technology being released as the U.S. Government. This sale is necessary in furtherance of the U.S. foreign policy and national security objectives outlined in the Policy Justification.

5. All defense articles and services listed in this transmittal have been authorized for release and export to the recipient.

[FR Doc. 2025-20078 Filed 11-17-25; 8:45 am]

BILLING CODE 6001-FR-P